DEPARTMENT OF TRANSPORTATION

Research and Special Programs Administration Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepath, Director, Office of Hazardous Materials, Exemptions and Approvals, Research and Special Programs Administration, U.S. Department of Transportation, 400 Seventh Street, SW, Washington, DC 20590-0001, (202) 366-4535.

Key to “Reasons for Delay”

1. Awaiting additional information from applicant.

2. Extensive public comment under review.

3. Application is technically complex and is of significant impact or precedent-setting and requires extensive analysis.

4. Staff review delayed by other priority issues or volume of exemption applications.

Meaning of Application Number Suffixes

N—New application.

M—Modification request.

PM—Party to application with modification request.

Issued in Washington, DC, on March 13, 2002.
J. Suzanne Hedgepeth,
Director, Office of Hazardous Materials, Exemptions and Approvals.

New Exemption Applications
Application No. | Applicant | Reason for delay | Estimated date of completion
11862-N | The BOC Group, Murray Hill, NJ | 4 | 05/31/2002
11927-N | Alaska Marine Lines, Inc., Seattle, WA | 4 | 05/31/2002
12353-N | Monson Companies, South Portland, ME | 4 | 05/31/2002
12381-N | Ideal Chemical & Supply Co., Memphis, TN | 4 | 04/30/2002
12406-N | Occidental Chemical Corporation, Dallas, TX | 4 | 03/29/2002
12412-N | Great Western Chemical Company, Portland, OR | 4 | 03/29/2002
12434-N | Salmon Air, Salmon, ID | 4 | 04/30/2002
12440-N | Luxfer Inc., Riverside, CA | 4 | 05/31/2002
12456-N | Baker Hughes, Houston, TX | 4 | 05/31/2002
12571-N | Air Products & Chemicals, Inc., Allentown, PA | 4 | 03/29/2002
12588-N | El Dorado Chemical Co., Creve Ceour, MO | 4 | 05/31/2002
12630-N | Chemetall GmbH Gesellschaft, Langelsheim, DE | 4 | 03/29/2002
12634-N | Norman International, Los Angeles, CA | 4 | 05/31/2002
12648-N | Stress Engineering Services, Inc., Houston, TX | 4 | 05/31/2002
12661-N | United Parcel Service (UPS), Atlanta, GA | 4 | 05/31/2002
12690-N | Air Liquide America Corporation, Houston, TX | 4 | 04/30/2002
12701-N | Fuel Cell Components & Intergrators, Inc., Hauppauge, NY | 1 | 04/30/2002
12706-N | Raufoss Composites AS, Raufoss, NO | 4 | 05/31/2002
12716-N | Air Liquide America Corporation, Houston, TX | 4 | 04/30/2002
12718-N | Weldship Corporation, Bethlehem, PA | 4 | 04/30/2002
12741-N | Thunderbird Cylinder Inc., Phoenix, AZ | 4 | 03/29/2002
12751-N | Defense Technology Corporation, Casper, WY | 4 | 03/29/2002
12753-N | Praxair, Inc., Danbury, CT | 4 | 04/30/2002
12800-N | Department of Energy (DOE), Washington, DC | 4 | 04/30/2002
12815-N | FMC Corporation, Opelousas, LA | 4 | 04/30/2002
12820-N | Trinity Manufacturing Hamlet, NC | 4 | 05/31/2002
12844-N | Delphi Automotive Systems, Troy, MI | 4 | 03/29/2002

Modifications to Exemptions
Application No. | Applicant | Reason for delay | Estimated date of completion
4884-M | Matheson Tri-Gas, East Rutherford, NJ | 4 | 03/29/2002
6805-M | Air Liquide America Corporation, Houston, TX | 4 | 03/29/2002
7007-M | Allied Universal Corp, Miami, FL | 4 | 03/29/2002
7060-M | Federal Express, Memphis, TN | 4 | 04/30/2002
7277-M | Structural Composites Industries, Pomona, CA | 4 | 04/30/2002
8162-M | Structural Composites Industries, Pomona, CA | 4 | 05/31/2002
8308-M | Tradewind Enterprises, Inc., Hillsboro, OR | 4 | 04/30/2002
8308-M | American Courier Express Corporation, Miramar, FL | 4 | 04/30/2002
8554-M | Orica USA, Inc., Englewood, CO | 4 | 04/30/2002
8718-M | Structural Composites Industries, Pomona, CA | 4 | 04/30/2002
9401-M | Societe National de Wagon-Reservoirs, 79009 Paris, FR | 4 | 03/29/2002
9884-M | Puritan Bennett Corp. (Div. of Tyco Healthcare), Indianapolis, IN | 4 | 03/29/2002
10019-M | Structural Composites Industries, Pomona, CA | 4 | 04/30/2002
10832-M | Autoliv ASP, Inc., Ogden, UT | 4 | 04/30/2002
11327-M | Phoenix Services, Inc., Pasadena, MD | 4 | 04/30/2002
11379-M | TRW Automotive Occupant Safety Systems, Washington, MI | 4 | 04/30/2002
11537-M | JCI Jones Chemicals, Inc., Milford, VA | 4 | 05/31/2002
11769-M | Great Western Chemical Company, Portland, OR | 4 | 04/30/2002
11769-M | Great Western Chemical Company, Portland, OR | 4 | 04/30/2002
11769-M | Hydrite Chemical Company, Brookfield, WI | 4 | 05/31/2002
11791-M | The Coleman Company, Inc., Wichita, KS | 4 | 04/30/2002
11850-M | Air Transport Association, Washington, DC | 4 | 05/31/2002
11911-M | Transfer Flow, Inc., Chico, CA | 4 | 05/31/2002
12065-M | Petrolab Company, Latham, NY | 4 | 04/30/2002
12449-M | Chlorine Service Company, Inc., Kingwood, TX | 4 | 03/29/2002
12599-M | Voltaix, Inc., North Branch, NJ | 4 | 05/31/2002

[FR Doc. 02-6761 Filed 3-19-02; 8:45 am]

BILLING CODE 4910-60-M